DEPARTMENT OF ENERGY

Federal Energy Regulatory Commission

[Docket No. EL08-20-000]

California Independent System Operator Corporation; Notice of Institution of Proceeding and Refund Effective Date

December 21, 2007.

On December 20, 2007, the Commission issued an order that instituted a proceeding in the above-referenced docket, pursuant to section 206 of the Federal Power Act (FPA) 16 U.S.C. 824e, to investigate the justness and reasonableness of extending the California Independent System Operator, Inc.'s Reliability Capacity Services Tariff until the earlier of the implementation of the Market Redesign and Technology Upgrade or an alternative backstop capacity procurement mechanism.

The refund effective date, established pursuant to section 206(b) of the Federal Power Act, will be the date of publication of this notice in the Federal Register.

Kimberly D. Bose,
Secretary.

[FR Doc. E8-47 Filed 1-7-08; 8:45 am]

BILLING CODE 6717-01-P